Executive Order 14162 of January 20, 2025

Putting America First in International Environmental Agreements

By the authority vested in me as President by the Constitution and the laws of the United States of America, it is hereby ordered as follows:

Section 1. Purpose. The United States must grow its economy and maintain jobs for its citizens while playing a leadership role in global efforts to protect the environment. Over decades, with the help of sensible policies that do not encumber private-sector activity, the United States has simultaneously grown its economy, raised worker wages, increased energy production, reduced air and water pollution, and reduced greenhouse gas emissions. The United States' successful track record of advancing both economic and environmental objectives should be a model for other countries.

In recent years, the United States has purported to join international agreements and initiatives that do not reflect our country's values or our contributions to the pursuit of economic and environmental objectives. Moreover, these agreements steer American taxpayer dollars to countries that do not require, or merit, financial assistance in the interests of the American people.

Sec. 2. Policy. It is the policy of my Administration to put the interests of the United States and the American people first in the development and negotiation of any international agreements with the potential to damage or stifle the American economy. These agreements must not unduly or unfairly burden the United States.

Sec. 3. Implementation. (a) The United States Ambassador to the United Nations shall immediately submit formal written notification of the United States' withdrawal from the Paris Agreement under the United Nations Framework Convention on Climate Change. The notice shall be submitted to the Secretary-General of the United Nations, the Depositary of the Agreement, attached as Appendix A. The United States will consider its withdrawal from the Agreement and any attendant obligations to be effective immediately upon this provision of notification.

(b) The United States Ambassador to the United Nations shall immediately submit written formal notification to the Secretary-General of the United Nations, or any relevant party, of the United States' withdrawal from any agreement, pact, accord, or similar commitment made under the United Nations Framework Convention on Climate Change.

(c) The United States Ambassador to the United Nations, in collaboration with the Secretary of State and Secretary of the Treasury, shall immediately cease or revoke any purported financial commitment made by the United States under the United Nations Framework Convention on Climate Change.

(d) Immediately upon completion of the tasks listed in subsections (a), (b), and (c), the United States Ambassador to the United Nations, in collaboration with the Secretary of State and Secretary of the Treasury shall certify a report to the Assistant to the President for Economic Policy and Assistant to the President for National Security Affairs that describes in detail any further action required to achieve the policy objectives set forth in section 2 of this order.

(e) The U.S. International Climate Finance Plan is revoked and rescinded immediately. The Director of the Office of Management and Budget shall, within 10 days of this order, issue guidance for the rescission of all frozen funds.

(f) Within 30 days of this order, the Secretary of State, Secretary of the Treasury, Secretary of Commerce, Secretary of Health and Human Services, Secretary of Energy, Secretary of Agriculture, Administrator of the Environmental Protection Agency, Administrator of the U.S. Agency for International Development, Chief Executive Officer of the International Development Finance Corporation, Chief Executive Officer of the Millennium Challenge Corporation, Director of the U.S. Trade and Development Agency, President of the Export-Import Bank, and head of any other relevant department or agency shall submit a report to the Assistant to the President for Economic Policy and the Assistant to the President for National Security Affairs that details their actions to revoke or rescind policies that were implemented to advance the International Climate Finance Plan.

(g) The Secretary of State, Secretary of Commerce, and the head of any department or agency that plans or coordinates international energy agreements shall henceforth prioritize economic efficiency, the promotion of American prosperity, consumer choice, and fiscal restraint in all foreign engagements that concern energy policy.

Sec. 4. General Provisions. (a) Nothing in this order shall be construed to impair or otherwise affect:

(i) the authority granted by law to an executive department or agency, or the head thereof; or

(ii) the functions of the Director of the Office of Management and Budget relating to budgetary, administrative, or legislative proposals.

(b) This order shall be implemented in a manner consistent with applicable law and subject to the availability of appropriations.

(c) This order is not intended to, and does not, create any right or benefit, substantive or procedural, enforceable at law or in equity by any party against the United States, its departments, agencies, or entities, its officers, employees, or any other persons.

THE WHITE HOUSE,

January 20, 2025.

Billing code 3395-F4-P

[FR Doc. 2025-02010

Filed 1-29-25; 8:45 am]

Billing code 3395-F4-C